DEPARTMENT OF THE INTERIOR

[WO-640-1020-00-241E]

Establishment of the Sonoran Desert National Monument Advisory Council

AGENCY: Bureau of Land Management (BLM), Interior.

ACTION: Sonoran Desert National Monument Advisory Council—Notice of Establishment.

SUMMARY: This notice announces the establishment of the Bureau of Land Management's Sonoran Desert National Monument Advisory Council by the Secretary of the Interior (Secretary) in accordance with the provisions of the Federal Advisory Committee Act (FACA) of 1972, 5 U.S.C. Appendix. A copy of the Council charter will be filed with the appropriate committees of Congress and the Library of Congress in accordance with Section 9(c) of FACA.

The Federal Land Policy and Management Act, as amended, requires the Secretary to establish advisory councils to provide advice concerning the problems relating to land use planning and the management of public lands within the areas for which the advisory councils are established. The Council will provide representative counsel and advice to BLM on the planning and management of public lands as well as advice on public land resource issues. Council members will be residents of the State(s) in which the Council has jurisdiction and will be appointed by the Secretary.

FOR FURTHER INFORMATION CONTACT: Melanie Wilson Gore, Intergovernmental Affairs (640), Bureau of Land Management, 1620 L Street, NW., Room 406 LS, Washington, DC 20036, telephone (202) 452-0377.

SUPPLEMENTARY INFORMATION: The purpose of the Council is to advise the Secretary, through the BLM, on a variety of planning and management issues associated with the management of the Sonoran Desert National Monument. The Council responsibilities include providing advice to BLM public land planning, management and uses of the Sonoran Desert National Monument area.

The Council will consist of 12 members. Specifically, the membership will consist of representatives of various industries and interests concerned with the management, protection, and utilization of the public lands. These include (a) representatives of Native American interests; (b) a representative of dispersed recreation; (c) a representative of mechanized recreation; (d) a representative of the of State of Arizona, recommended by the Governor; (e) a representative of environmental interests; (f) an elected official from a city or county in the vicinity of the Monument; (g) a holder of a livestock grazing permit or a representative of permittees on the allotments within the Monument area; (h) a representative of rural communities around the Monument area; (i) representatives of the sciences from among wildlife biology, archaeology, ecology, botany, history, social sciences or other applicable disciplines; and (j) representatives of county interests appointed by nominees submitted by the Supervisors of Maricopa and Pinal Counties.

Membership will include individuals who have expertise, education, training, or practical experience in the planning and management of the public lands and their resources and who have knowledge of the geographical jurisdiction(s) of the Council.

Certification

I hereby certify that the establishment of the Sonoran Desert National Monument Advisory Council is necessary and in the public interest in connection with the Secretary of the Interior's responsibilities to manage the lands, resources and facilities administered by the Bureau of Land Management.

Dated: March 4, 2005.
Gale A. Norton,
Secretary of the Interior.

[FR Doc. 05-7711 Filed 4-15-05; 8:45 am]

BILLING CODE 4310-84-P